NATIONAL AERONAUTICS AND SPACE ADMINISTRATION

[Notice 00-100]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing:

NASA Case No. LEW 16056-2: Design and Manufacture of Long Life Hollow Cathode Assemblies;

NASA Case No. LEW 16803-1: Segmented Thermal Barrier Coating;

NASA Case No. LEW 16833-1: Self Tuning Impact Damper;

NASA Case No. LEW 16968-1: Development of Processable Polyimides for High Temperature Applications with the Use of Triamine Additives;

NASA Case No. LEW 16987-1: New Latent Reactive Endcaps for Polymers with Improved Thermal Oxidative Stability;

NASA Case No. LEW 17012-1: Cyclohexene Endcaps for Polymers with Improved Thermal Oxidative Stability;

NASA Case No. LEW 26691-1: PMR Extended Shelf Life Tech—A Chemical Process to Significantly Retard the Premature Aging of PMR Resin Solutions and PMR Prepregs.

DATES: August 24, 2000.

FOR FURTHER INFORMATION CONTACT: Kent N. Stone, Patent Attorney, Glenn Research Center at Lewis Field, Mail Code 500-118, Cleveland, Ohio 44135; Tel. (216) 433-8855; Fax (216) 433-6790.

Dated: August 16, 2000.
Edward A. Frankle,
General Counsel.

[FR Doc. 00-21584 Filed 8-23-00; 8:45 am]

BILLING CODE 7510-10-P